DEPARTMENT OF HOMELAND SECURITY

Transportation Security Administration

Aviation Security Advisory Committee Meeting

AGENCY: Transportation Security Administration, DHS.

ACTION: Notice of meeting.

SUMMARY: This notice announces a meeting of the Aviation Security Advisory Committee (ASAC).

DATES: The meeting will take place on September 10, 2009, from 1 p.m. to 4:30 p.m., Eastern Standard Time, or until the conclusion of the committee's business.

ADDRESSES: The meeting will be held at the Doubletree Hotel Crystal City—National Airport, 300 Army Navy Drive, Arlington, Virginia, United States 20598-6028.

FOR FURTHER INFORMATION CONTACT: Dean Walter, Office of Transportation Sector Network Management, Transportation Security Administration, 601 South 12th Street, Arlington, VA 20598-6028; telephone 571-227-2645, e-mail dean.walter@dhs.gov.

SUPPLEMENTARY INFORMATION: This meeting is announced pursuant to section 10(a)(2) of the Federal Advisory Committee Act, as amended (5 U.S.C. App.). The purpose of this meeting is to discuss the following agenda items—

• Transportation System Sector Specific Plan update;

• Secure Flight Program update;

• Report on the Airport Security Design Guidelines;

• Air Cargo Security—Update on 100% screening of air cargo;

• General Aviation update—Large Aircraft Security Plan regulation;

• New air service to foreign countries; and

• Other aviation security topics.

This meeting is open to the public, but attendance is limited to space available. The doors will open at 12:30 p.m.

Members of the public must make advance arrangements to present oral statements at the meeting. Written statements may be presented to the committee by providing copies of them to the person listed under the heading FOR FURTHER INFORMATION CONTACT prior to or at the meeting. Anyone in need of assistance or a reasonable accommodation for the meeting should contact the person listed under the heading FOR FURTHER INFORMATION CONTACT. In addition, sign and oral interpretation, as well as a listening device, can be provided if requested 10 calendar days before the meeting. Arrangements may be made by contacting the person listed under the heading FOR FURTHER INFORMATION CONTACT.

Issued in Arlington, Virginia, on August 25, 2009.
John P. Sammon,
Assistant Administrator, Transportation Sector Network Management.

[FR Doc. E9-20846 Filed 8-25-09; 4:15 pm]

BILLING CODE 9110-05-P